FEDERAL COMMUNICATIONS COMMISSION

Notice of Public Information Collection(s) Being Submitted for Review to the Office of Management and Budget

November 25, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 13, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0686.

Title: Streamlining the International Section 214 Authorization Process and Tariff Requirements.

Form No.: N/A.

Type of Review: Revision of a currently approved collection.

Respondents: Business or other for-profit.

Number of Respondents: 1,650 respondents; 3,603 responses.

Estimated Time Per Response: 1 hour-6,056 hours.

Frequency of Response: On occasion, annual, quarterly reporting requirements, third party disclosure requirement, and recordkeeping requirement.

Total Annual Burden: 148,053 hours.

Total Annual Cost: $16,162,000.

Privacy Act Impact Assessment: N/A.

Needs and Uses: The Commission is submitting this revised information collection to OMB because we plan to develop four new Section 214 applications. They are: (1) International Telecommunications Certificate (ITC) Agreement; (2) ITC Modification; (3) ITC Other Filings; and (4) Foreign Carrier Notification. The Commission is also requesting continued OMB approval of the existing information collections previously approved by OMB.

After the new applications have been developed, they will be filed in the International Bureau Filing System (IBFS). We do not know the specific time frame for the development of each application. However, we estimate that the projected completion date for all Section 214 license applications is December 31, 2008. The development of the applications is contingent upon the availability of budget funds, human resources and other factors. The annual burden hours and costs are unknown at this time because the forms have not been developed by the Commission. Therefore, this submission to OMB does not reflect any changes in estimated burden to the public.

OMB Control No.: 3060-0704.

Title: Policy and Rules Concerning the Interstate, Interexchange Marketplace; Implementation of Section 254(g) of the Communications Act of 1934, as amended, CC Docket No. 96-61.

Form No.: N/A.

Type of Review: Revision of a currently approved collection.

Respondents: Business or other for-profit.

Number of Respondents: 519.

Estimated Time Per Response: .5 hours-120 hours.

Frequency of Response: On occasion and annual reporting requirements, recordkeeping requirement, and third party disclosure requirement.

Total Annual Burden: 84,337 hours.

Total Annual Cost: N/A.

Privacy Act Impact Assessment: N/A.

Needs and Uses: The Commission is submitting this information collection to OMB for revision. The Commission revised this collection by eliminating a one-time Tariff Cancellation Requirement in which nondominant interexchange carriers were forborne from filing tariffs except as stipulated in the Order on Reconsideration. Elimination of this one time requirement reduced the total annual burden by 74,598 hours.

The information collected under the information disclosure requirement and the Internet posting requirement must be disclosed to the public to ensure that consumers have access to the information they need to select a telecommunications carrier and bring to the Commission's attention any possible violations of the Communications Act without a specific public disclosure requirement. The information collected under the recordkeeping and other requirements will be used by the Commission to ensure that affected interexchange carrier fulfill their obligations under the Communications Act, as amended.

Federal Communications Commission.
Marlene H. Dortch,
Secretary.

[FR Doc. 05-23878 Filed 12-13-05; 8:45 am]

BILLING CODE 6712-01-P